COMMISSION ON CIVIL RIGHTS

Agenda and Notice of Public Meeting of the South Dakota Advisory Committee

AGENCY: Commission on Civil Rights.

ACTION: Announcement of public meetings.

SUMMARY: Notice is hereby given, pursuant to the provisions of the rules and regulations of the U.S. Commission on Civil Rights (Commission), and the Federal Advisory Committee Act (FACA), that the South Dakota State Advisory Committee to the Commission will convene meetings on the 2nd Mondays of the following months: December 13, 2021, at 3:30 p.m. (CT) and January 10 and February 14, 2022, at 3:30 p.m. (CT). The purpose of the meetings for project planning.

DATES: Mondays: December 13, 2021; January 10, 2022; February 14, 2022; all meetings are at 3:30 p.m. (CT).

ADDRESSES:

Public Web Conference Registration Link for All Meetings (Video and Audio): https://bit.ly/3AnTnxv; password, if needed: USCCR

If Joining by Phone Only, Dial: 1-800-360-9505; access code: 2762 840 3606#.

FOR FURTHER INFORMATION CONTACT: Mallory Trachtenberg at mtrachtenberg@usccr.gov or by phone at (202) 809-9618.

SUPPLEMENTARY INFORMATION: The meetings are available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email mtrachtenberg@usccr.gov at least 7 days prior to each meeting for which accommodations are requested.

Members of the public are entitled to make comments during the open period at the end of each meeting. Members of the public may also submit written comments; the comments must be received in the Regional Programs Unit within 30 days following the meetings. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda: Mondays: December 13, 2021; January 10, 2022; February 14, 2022; at 3:30 p.m. (CT).

I. Welcome and Roll Call

II. Announcements and Updates

III. Approval of Minutes

IV. Discussion: Project Planning

V. Public Comment

VI. Next Steps

VII. Adjournment

Dated: December 2, 2021.
David Mussatt,
Supervisory Chief, Regional Programs Unit.

[FR Doc. 2021-26532 Filed 12-7-21; 8:45 am]

BILLING CODE 6335-01-P